DEPARTMENT OF HEALTH AND HUMAN SERVICES

National Institutes of Health

Prospective Grant of Exclusive License: Glycoprotein Hormone Superagonists

Correction

In notice document 002630 beginning on page 5878 in the issue of Monday, February 7, 2000, make the following correction:

On page 5878, in the third column, in SUMMARY, in the 12th line, ``EndocrinoLogiz, Inc.'' should read ``EndocrinoLogix, Inc.''.

[FR Doc. C02630 Filed 21100; 8:45 am]

BILLING CODE 150501D

SECURITIES AND EXCHANGE COMMISSION

[Release No. 34-42310; File No. SR-NASD-99-66]

Self Regulatory Organizations; Notice of Filing of Proposed Rule Change by National Association of Securities Dealers, Inc. Relating to the Implementation of Mandatory Trade Reporting for PORTAL Securities

Correction

In notice document 00818 beginning on page 2207, in the issue of Thursday, January 13, 2000, make the following correction:

On page 2207, in the first column, the docket number is corrected to read as set forth above.

[FR Doc. C0818 Filed 2-11-00; 8:45 am]

BILLING CODE 150501D

DEPARTMENT OF TRANSPORTATION

Office of the Secretary

14 CFR Part 302

[Docket No. OST-97-2090]

RIN 2105-AC48

Rules of Practice in Proceedings

Correction

In rule document 002554 beginning on page 6446 in the issue of Wednesday, February 9, 2000 make the following correction:

302.304 [Corrected]

1. On page 6475, second column 302.304, paragraphs (b)(2)(i), (ii), and (iii) were erroneously deleted. They are being correctly added to read as follows:

302.304 Service of documents.

* * * * *

(b)* * *

(2) Applicants for scheduled foreign air transportation authority shall serve:

(i) All U.S. air carriers (including commuter air carriers) that publish schedules in the Official Airline Guide or in the Air Cargo Guide for the country-pair market(s) specified in the application,

(ii)The airport authority of each U.S. airport that the applicant proposes to serve, and

(iii) Any other person who has filed a pleading in a related proceeding under section 41102, 41302, or 40109 of the Statute.

* * * * *

[FR Doc. C02554 Filed 21100; 8:45 am]

BILLING CODE 150501D